DEPARTMENT OF COMMERCE

Foreign-Trade Zones Board

Order No. 1509

Expansion of Foreign-Trade Zone 123, Denver, Colorado, Area

Pursuant to its authority under the Foreign-Trade Zones Act of June 18, 1934, as amended (19 U.S.C. 81a-81u), the Foreign-Trade Zones Board (the Board) adopts the following Order:

Whereas, the City and County of Denver, grantee of Foreign-Trade Zone 123, submitted an application to the Board for authority to expand FTZ 123 to include a site (766 acres) at the Great Western Industrial Park (Site 3) in the Windsor, Colorado, area, adjacent to the Denver Customs and Border Protection port of entry (FTZ Docket 28-2006; filed 7/12/06);

Whereas, notice inviting public comment was given in the Federal Register (71 FR 39296, 7/12/06), and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 123 is approved, subject to the FTZ Act and the Board's regulations, including Section 400.28.

Signed at Washington, DC, this 10th day of April 2007.

David M. Spooner,
Assistant Secretary of Commerce for Import Administration, Alternate Chairman, Foreign-Trade Zones Board.
Attest:
Andrew McGilvray,
Executive Secretary.

[FR Doc. E7-7595 Filed 4-19-07; 8:45 am]

BILLING CODE 3510-DS-S